DEPARTMENT OF DEFENSE

Office of the Department of the Air Force

Notice of Intent To Grant an Exclusive Patent License

AGENCY: Department of the Air Force, DoD.

ACTION: Notice of Intent.

SUMMARY: Pursuant to the Bayh-Dole Act and implementing regulations, the Department of the Air Force hereby gives notice of its intent to grant an exclusive patent license agreement to the Defense Science Technology Laboratory, an executive agency of the Ministry of Defense of the United Kingdom of Great Britain and Northern Ireland.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. AFD 1796 in the subject line of the message.

FOR FURTHER INFORMATION CONTACT: Air Force Materiel Command Law Office, AFMCLO/JAZ, 2240 B Street, Rm 260, Wright-Patterson AFB, OH 45433-7109; Facsimile: (937) 255-3733; Email: afmclo.jaz.tech@us.af.mil.

SUPPLEMENTARY INFORMATION: The Department of the Air Force intends to grant the exclusive patent license agreement to consolidate rights with co-owner The Secretary of State for Defense of the United Kingdom of Great Britain and Northern Ireland as represented by the Defense Science Technology Laboratory for the invention described in:

A Radio or Sonic Wave Detector, Transmitter, Receiver and Method Thereof

—United Kingdom Application Serial No. GB1803239.1, filed February 28, 2018

—Patent Cooperation Treaty Serial No. PCT/GB2019/000041, filed February 25, 2019

—U.S. Patent Application Serial No. 16/288,791, filed February 28, 2019

The consolidation of rights is in the best interest of both owners in order to promote commercialization of the technology in the United States and abroad. The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2019-24705 Filed 11-13-19; 8:45 am]

BILLING CODE 5001-10-P